DEPARTMENT OF THE INTERIOR

U.S. Geological Survey

[GX12EB00A181000]

Agency Information Collection Activities: Comment Request

AGENCY: U.S. Geological Survey (USGS), Interior.

ACTION: Notice of an extension of a currently approved information collection (1028-0085).

SUMMARY: To comply with the Paperwork Reduction Act of 1995 (PRA), we are notifying the public that we (U.S. Geological Survey) will ask the Office of Management and Budget (OMB) to approve the information collection (IC) described below. for the National Land Remote Sensing Education, Outreach and Research Activity (NLRSEORA). As required by the Paperwork Reduction Act of 1995 (PRA), and as a part of our continuing efforts to reduce paperwork and respondent burden, we invite the general public and other Federal agencies to take this opportunity to comment on this IC. As a federal agency, we may not conduct or sponsor and you are not required to respond to, a collection of information unless it displays a currently valid OMB control number. This ICR is scheduled to expire on February 29, 2012.

DATES: Submit written comments by December 20, 2011.

ADDRESSES: Please send your comments concerning the IC to the USGS Information Collection Clearance Officer, U.S. Geological Survey, 12201 Sunrise Valley Drive MS 807, Reston, VA 20192 (mail); 703-648-7199 (fax); or smbaloch@usgs.gov (e-mail). Please reference Information Collection 1028-0085.

FOR FURTHER INFORMATION PLEASE CONTACT: Thomas Cecere at 703-648-5551 (phone), tcecere@usgs.gov (e-mail), or 12201 Sunrise Valley Drive MS 517, Reston, VA, 20192 (mail) .

SUPPLEMENTARY INFORMATION:

Title: National Land Remote Sensing Education, Outreach and Research Activity (NLRSEORA).

OMB Control Number: 1028-0085.

Form Number: Standard Form 424 Application for Federal Assistance, Standard Form 424A Budget Information Non-Construction Programs, and Standard Form 424B Assurances Non-Construction Programs, and Project narrative guidance posted on Grants.gov.

Abstract: Oversight for this effort is through the U.S. Geological Survey's Land Remote Sensing Program, therefore it is more appropriate to refer to this effort as an activity rather than as a program as was previously indicated. Respondents are submitting proposals to acquire funding for a National (U.S.) activity to promote the uses of space-based land remote sensing data and technologies through education and outreach at the State and local level and through university based and collaborative research projects. Technologies of interest include multispectral and hyper-spectral electro-optical, thermal, and radar. Although most activities are anticipated to occur at the State and local levels, a national coordination effort is necessary to ensure a standardized approach and to ensure a consistent quality of information.

To submit a proposal for the NLRSEORA, three standard OMB forms and project narrative must be completed and submitted via Grants.gov. This notice provides the public an opportunity to comment on the paperwork burden of these forms. The forms are available at http://www07.grants.gov/agencies/approved_standard_forms.jsp.

We will protect information from respondents considered proprietary under the Freedom of Information Act (5 U.S.C. 552) and its implementing regulations (43 CFR Part 2), and under regulations at 30 CFR 250.197, “Data and information to be made available to the public or for limited inspection.” Responses are voluntary. No questions of a “sensitive” nature are asked. We intend to release the project abstracts and primary investigators for awarded/funded projects only.

Frequency: Annually.

Estimated Number and Description of Respondents: Approximately 10 proposals are submitted by individuals involved in the area of geospatial science.

Estimated Number of Responses: 10.

Annual Burden Hours: 240.

Estimated Annual Reporting and Recordkeeping “Hour” Burden: We estimate the public reporting burden averages 16 to 24 hours per response. This includes the time for reviewing instructions, developing the proposal, and completing and reviewing the information.

Estimated Reporting and Recordkeeping “Non-Hour Cost” Burden: We have not identified any “non-hour cost” burdens associated with this collection of information.

Public Disclosure Statement: The PRA (44 U.S.C. 3501, et seq.) provides that an agency may not conduct or sponsor, and you are not required to respond to, a collection of information unless it displays a currently valid OMB control number. Until OMB approves a collection of information, you are not obligated to respond.

Request for Comments: We invite comment concerning this IC on: (1) Whether or not the collection of information is necessary, including whether or not the information will have practical utility; (2) the accuracy of our estimate of the burden for this collection of information; (3) ways to enhance the quality, utility, and clarity of the information to be collected; and (4) ways to minimize the burden of the collection of information on respondents.

Please note that the comments you submit in response to this notice are a matter of public record. We will include or summarize each comment in our request to OMB to approve this IC. Before including your address, phone number, e-mail address, or other personal identifying information in your comment, you should be aware that your entire comment, including your personal identifying information, may be made publicly available at any time. While you can ask us in your comment to withhold your personal identifying information from public review, we cannot guarantee that it will be done.

Dated: October 17, 2011.
Bruce Quirk,
Program Coordinator, Land Remote Sensing Program, U.S. Geological Survey.

[FR Doc. 2011-27268 Filed 10-20-11; 8:45 am]

BILLING CODE 4311-AM-P